DEPARTMENT OF ENERGY

Federal Energy Regulatory Commission

Combined Notice of Filings #2

January 6, 2006.

Take notice that the Commission received the following electric rate filings:

Docket Numbers: ER05-644-004.

Applicants: PSEG Energy Resources & Trade LLC.

Description: PSEG Energy Resources & Trade LLC and PSEG Fossil LLC submit First Substitute Original Sheet No. 1 to FERC Electric Tariff, Original Volume No. 2 to comply with Order 614.

Filed Date: December 28, 2005.

Accession Number: 20051230-0106.

Comment Date: 5 p.m. Eastern Time on Wednesday, January 18, 2006.

Docket Numbers: ER06-404-000.

Applicants: Tucson Electric Power Company.

Description: Tucson Electric Power Co and UNS Electric, Inc. submit Original Sheet No. 474 et al. to FERC Electric Tariff, Third Revised Volume No. 2.

Filed Date: December 28, 2005.

Accession Number: 20051229-0135.

Comment Date: 5 p.m. Eastern Time on Wednesday, January 18, 2006.

Docket Numbers: ER06-405-000.

Applicants: Mirant Power Purchase, LLC.

Description: Mirant Power Purchase, LLC an indirect wholly-owned subsidary of Mirant Corp notifies that, as a result of a name change, that it has succeeded to the market-based rate schedule of Mirant Oregon, LLC.

Filed Date: December 28, 2005.

Accession Number: 20051229-0175.

Comment Date: 5 p.m. Eastern Time on Wednesday, January 18, 2006.

Docket Numbers: ER06-406-000.

Applicants: PJM Interconnection, L.L.C.

Description: PJM Interconnection, LLC submits revisions to its Open Access Transmission Tariff and the Amended and Restated Operating Agreement to enhance demand response in the PJM region.

Filed Date: December 28, 2005.

Accession Number: 20051229-0230.

Comment Date: 5 p.m. Eastern Time on Wednesday, January 18, 2006.

Docket Numbers: ER06-409-000.

Applicants: PacifiCorp.

Description: PacifiCorp submits First Revised Sheet No.13 et al. to FERC Electric Tariff, Fifth Revised Volume No. 11 pursuant to Order 661 & Order 661-A.

Filed Date: December 28, 2005.

Accession Number: 20051229-0178.

Comment Date: 5 p.m. Eastern Time on Wednesday, January 18, 2006.

Docket Numbers: ER06-411-000.

Applicants: Avista Corporation.

Description: Avista Corp submits a non-conforming agreement under its OATT, Original Volume No. 8 consisting of an Interconnection and Operating Agreement with the City of Chewelah, effective January 1, 2006.

Filed Date: December 28, 2005.

Accession Number: 20051230-0100.

Comment Date: 5 p.m. Eastern Time on Wednesday, January 18, 2006.

Docket Numbers: ER06-412-000.

Applicants: Avista Corporation.

Description: Avista Corp submits a non-conforming agreement under its OATT, Original Volume No. 8 consisting of an Interconnection and Operating Agreement with Modern Electric Water Co, etc.

Filed Date: December 28, 2005.

Accession Number: 20051230-0101.

Comment Date: 5 p.m. Eastern Time on Wednesday, January 18, 2006.

Docket Numbers: ER06-413-000.

Applicants: Avista Corporation.

Description: Avista Corp files a non-conforming agreement under its OATT, Original Volume No. 8 consisting of an Interconnection and Operating Agreement with Idaho County Light & Power Cooperative Assoc.

Filed Date: December 28, 2005.

Accession Number: 20051230-0102.

Comment Date: 5 p.m. Eastern Time on Wednesday, January 18, 2006.

Docket Numbers: ER06-414-000.

Applicants: Avista Corporation.

Description: Avista Corporation submits a non-conforming agreement under its OATT, Original Volume No. 8, consisting of an Interconnection & Operating Agreement with Clearwater Power Co.

Filed Date: December 28, 2005.

Accession Number: 20051230-0103.

Comment Date: 5 p.m. Eastern Time on Wednesday, January 18, 2006.

Docket Numbers: ER06-415-000.

Applicants: Avista Corporation.

Description: Avista Corp submits a non-conforming agreement under its OATT, Original Volume No. 8, consisting of an Interconnection & Operating Agreement with Inland Power & Light Co.

Filed Date: December 28, 2005.

Accession Number: 20051230-0091.

Comment Date: 5 p.m. Eastern Time on Wednesday, January 18, 2006.

Docket Numbers: ER06-416-000.

Applicants: Avista Corporation.

Description: Avista Corporation submits a non-conforming agreement under its OATT, Original Volume No. 8 consisting of an Interconnection and Operating Agreement with Northern Lights Inc.

Filed Date: December 28, 2005.

Accession Number: 20051230-0092.

Comment Date: 5 p.m. Eastern Time on Wednesday, January 18, 2006.

Docket Numbers: ER06-417-000.

Applicants: Avista Corporation.

Description: Avista Corporation submits a non-conforming agreement under its OATT, Original Volume No. 8 consisting of an Interconnection and Operating Agreement with the City of Plummer.

Filed Date: December 28, 2005.

Accession Number: 20051230-0093.

Comment Date: 5 p.m. Eastern Time on Wednesday, January 18, 2006.

Any person desiring to intervene or to protest in any of the above proceedings must file in accordance with Rules 211 and 214 of the Commission's Rules of Practice and Procedure (18 CFR 385.211 and 385.214) on or before 5 p.m. Eastern Time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-275 Filed 1-12-06; 8:45 am]

BILLING CODE 6717-01-P